POSTAL REGULATORY COMMISSION

[Docket No. CP2009-61; Order No. 729]

Change in Postal Prices

AGENCY: Postal Regulatory Commission.

ACTION: Notice.

SUMMARY: The Commission is noticing a recently-filed Postal Service request to amend the Global Expedited Package Services 2 contract to the competitive product list. This notice addresses procedural steps associated with this filing.

DATES: Comments are due: May 23, 2011.

ADDRESSES: Submit comments electronically by accessing the “Filing Online” link in the banner at the top of the Commission's Web site (http://www.prc.gov) or by directly accessing the Commission's Filing Online system at https://www.prc.gov/prc-pages/filing-online/login.aspx. Commenters who cannot submit their views electronically should contact the person identified in FOR FURTHER INFORMATION CONTACT section as the source for case-related information for advice on alternatives to electronic filing.

FOR FURTHER INFORMATION CONTACT: Stephen L. Sharfman, General Counsel, at 202-789-6820 (case-related information) or DocketAdmins@prc.gov (electronic filing assistance).

SUPPLEMENTARY INFORMATION:

Table of Contents

I. Introduction

II. Notice of Filing

III. Ordering Paragraphs

I. Introduction

On May 11, 2011, the Postal Service filed notice that prices under Parcel Select & Parcel Return Service Contract 2 filed in the instant docket have changed in accordance with the original contract provisions for extension of its term.¹ An amendment incorporating the changes to Parcel Select & Parcel Return Service Contract 2 accompanies the Notice. Additionally, the Postal Service states that the financial documentation filed in compliance with 39 CFR 3015.5 incorporates changes proposed in Docket No. RM2011-10 currently being reviewed by the Commission.² Notice at 1. Because the Commission's review of the proposed methodology is still pending, the notice also provides a financial analysis based upon the current methodology approved by the Commission. Id.

¹ Notice of United States Postal Service of Change in Prices Pursuant to Amendment to Parcel Select & Parcel Return Service Contract 2, May 11, 2011 (Notice).

² See Notice of the United States Postal Service of Filing of USPS-RM2011-10/NP1, May 10, 2011 (RM2011-10 Notice).

The Postal Service includes three attachments in support of its Notice:

• Attachment A—a redacted copy of the amendment to the Parcel Select & Parcel Return Service Contract 2;

• Attachment B—a certified statement required by 39 CFR 3015.5(c)(2); and

• Attachment C—an application for non-public treatment of materials to maintain redacted portions of the contract, related financial information, and customer-identifying information under seal.

The current contract's term expires on May 31, 2011. Id. Attachment A at 3. The amendment will extend its term to May 31, 2012. Id. at 1. The Postal Service intends for the amendment to become effective on the date that the Commission completes its review of the instant filing. Id.

II. Notice of Filing

Interested persons may submit comments on whether the changes as presented in the Postal Service's Notice are consistent with the policies of 39 U.S.C. 3632, 3633, or 39 CFR part 3015. Comments are due no later than May 23, 2011. The Postal Service's Notice can be accessed via the Commission's Web site (http://www.prc.gov).

The Commission appoints Malin G. Moench to serve as Public Representative in the captioned proceeding.

III. Ordering Paragraphs

It is ordered:

1. The Commission shall review the amendment to Parcel Select & Parcel Return Service Contract 2 in Docket No. CP2009-61 for consideration of matters raised by the Postal Service's Notice.

2. Comments by interested persons in this proceeding are due no later than May 23, 2011.

3. Pursuant to 39 U.S.C. 505, Malin G. Moench is appointed to serve as the officer of the Commission (Public Representative) to represent the interests of the general public in this proceeding.

4. The Secretary shall arrange for publication of this order in the Federal Register.

By the Commission.
Shoshana M. Grove,
Secretary.

[FR Doc. 2011-12326 Filed 5-18-11; 8:45 am]

BILLING CODE 7710-FW-P